DEPARTMENT OF ENERGY

Federal Energy Regulatory Commission

Notice of Effectiveness of Exempt Wholesale Generator Status

| Docket Nos.
A V Solar Ranch 1, LLC | EG12-83-000
Spion Kop Wind, LLC | EG12-84-000
Shiloh IV Wind Project, LLC | EG12-85-000
Chisholm View Wind Project, LLC | EG12-86-000
Los Vientos Windpower IA, LLC | EG12-87-000
Los Vientos Windpower IB, LLC | EG12-88-000
Mehoopany Wind Energy LLC | EG12-89-000
Russell City Energy Company, LLC | EG12-90-000
Zephyr Wind, LLC | EG12-91-000
Beebe Renewable Energy, LLC | EG12-92-000
Spinning Spur Wind, LLC | EG12-93-000
Laurel Hill Wind Energy, LLC | EG12-94-000
Bobcat Bluff Wind Project, LLC | EG12-95-000

Take notice that during the month of September 2012, the status of the above-captioned entities as Exempt Wholesale Generators became effective by operation of the Commission's regulations. 18 CFR 366.7(a).

Dated: October 15, 2012.
Kimberly D. Bose,
Secretary.

[FR Doc. 2012-25814 Filed 10-19-12; 8:45 am]

BILLING CODE 6717-01-P